DEPARTMENT OF LABOR

Employment and Training Administration

Agency Information Collection Activities; Comment Request; Pre-Implementation Planning Checklist for State Unemployment Insurance Information Technology Modernization Projects

ACTION: Notice.

SUMMARY: The Department of Labor's (DOL's) Employment and Training Administration (ETA) is soliciting comments concerning a proposed revision for the authority to conduct the information collection request (ICR) titled “Pre-Implementation Planning Checklist for State Unemployment Insurance Information Technology Modernization Projects.” This comment request is part of continuing Departmental efforts to reduce paperwork and respondent burden in accordance with the Paperwork Reduction Act of 1995 (PRA).

DATES: Consideration will be given to all written comments received by January 6, 2020.

ADDRESSES: A copy of this ICR with applicable supporting documentation, including a description of the likely respondents, proposed frequency of response, and estimated total burden, may be obtained free by contacting Jagruti Patel by telephone at (202) 693-3059 (this is not a toll-free number), TTY 1-877-889-5627 (this is not a toll-free number), or by email at patel.jagruti@dol.gov.

Submit written comments about, or requests for a copy of, this ICR by mail or courier to the U.S. Department of Labor, Employment and Training Administration, Office of Unemployment Insurance, Room S-4524, 200 Constitution Avenue NW, Washington, DC 20210; by email: patel.jagruti@dol.gov; or by Fax at (202) 693-3975.

FOR FURTHER INFORMATION: Contact Jagruti Patel by telephone at (202) 693-3059 (this is not a toll-free number) or by email at patel.jagruti@dol.gov.

Authority: 44 U.S.C. 3506(c)(2)(A).

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

Building on lessons learned from previous state implementations of modernized Unemployment Insurance (UI) Information Technology (IT) systems, ETA facilitated the development of a UI IT Modernization Pre-Implementation Planning Checklist for states to use prior to “going live” with a new system. In 2017, ETA implemented the Pre-Implementation Planning Checklist for State UI IT Modernization Projects, ETA 9177 report. Subsequently, ETA received comments from State Workforce Agencies (SWAs) and other entities recommending additional items to be included in the checklist and seeking clarification on the instructions for using the report. In addition, the Bureau of Labor Statistics recommended an eleventh project category to address labor market information (LMI) Federal reporting functions. ETA has enhanced the ETA 9177 report and the accompanying instructions to address these comments. This enhanced version of the ETA 9177 report improves the document's structure, provides additional clarity on the verification steps for the ten existing project categories, and adds a new category to address verification steps for LMI Federal reporting functions. Like the original 2017 implementation, the updated checklist will validate that all necessary system functions are available and/or that alternative workarounds are developed prior to the production launch of a new UI IT system to help states avoid major disruption of services to UI customers and to prevent delays in making UI benefit payments when due.

This comprehensive checklist denotes critical functional areas that states must verify prior to launching new UI IT systems including, but not limited to, technical IT functions and UI business processes that interface with the new system.

The list of critical areas identified in the checklist includes:

• Functionality and Workarounds;

• External Alternate Access Options and Usability Issues Addressed;

• Policies and Procedures;

• Technical Preparation for System Implementation;

• Call Center/Customer Service Operations;

• Business Process;

• Help Desk;

• Management Oversight;

• Vendor Support/Communications;

• Communication Processes and Procedures; and

• Labor Market Information Federal Reporting Functions.

This information will include the UI IT Modernization project title (e.g. State project or Consortium name) and the associated report on Pre-Implementation Planning Checklist results. For each sub-element identified in the ETA 9177 report, the SWA is to provide:

• An overall status report;

• A brief report explaining the status of the project as it relates to the particular sub-element;

• Attached explanations of any workarounds concerning the processes in the sub-element;

• Attached explanations if implementation of the new system concerning specific processes for the sub-element will be delayed or deferred;

• Attached explanations for added clarity and/or to support a narrative;

• Mitigation proposals for addressing any problems;

• New project timelines if applicable; and/or

• Any discussion of identified technical assistance needs for the successful completion of the project.

ETA requires the use of this checklist report to help SWAs ensure the availability of mission critical functions as the state prepares for the launch of a new system and following the launch of a new system. In addition, the collection will enable ETA to identify and provide appropriate technical assistance on issues in the checklist and ensure SWAs have plans for addressing critical issues prior to launching a new UI IT system. Section 303(a)(6) of the Social Security Act, codified at 42 U.S.C. 503(a)(6), authorizes this information collection.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB control number 1205-0527.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Revision.

Title of Collection: Pre-Implementation Planning Checklist for State Unemployment Insurance Information Technology Modernization Projects.

Form: ETA 9177.

OMB Control Number: 1205-0527.

Affected Public: State, Local, and Tribal Governments.

Estimated Number of Respondents: 24.

Frequency: Once per incident.

Total Estimated Annual Responses: 3.

Estimated Average Time per Response: Varies.

Estimated Total Annual Burden Hours: 576 hours.

Total Estimated Annual Other Cost Burden: $0

John Pallasch,
Assistant Secretary for Employment and Training.

[FR Doc. 2019-24260 Filed 11-6-19; 8:45 am]

BILLING CODE 4510-FW-P